DEPARTMENT OF THE INTERIOR

Fish and Wildlife Service

Information Collection Submitted to the Office of Management and Budget (OMB) for Approval Under the Paperwork Reduction Act; Sandhill Crane Harvest Survey

AGENCY: Fish and Wildlife Service, Interior.

ACTION: Notice; request for comments.

SUMMARY: The U.S. Fish and Wildlife Service has submitted the collection of information listed below to OMB for approval under the provisions of the Paperwork Reduction Act. If you wish to obtain copies of the proposed information collection requirement, related forms, or explanatory material, contact the Service Information Collection Clearance Officer at the address listed below.

DATES: OMB has up to 60 days to approve or disapprove information collection but may respond after 30 days. Therefore, to ensure maximum consideration, you must submit comments on or before November 12, 2004.

ADDRESSES: Submit your comments on this information collection to the Desk Officer for the Department of the Interior at OMB-OIRA via facsimile or electronic mail: (202) 395-6566 (fax); or OIRA_DOCKET@omb.eop.gov (electronic mail). Please provide a copy of your comments to the Fish and Wildlife Service's Information Collection Clearance Officer via postal mail, electronic mail, or facsimile: 4401 N. Fairfax Dr., MS 222 ARLSQ, Arlington, VA 22203; Hope_Grey@fws.gov (electronic mail); or (703) 358-2269 (fax).

FOR FURTHER INFORMATION CONTACT: To request a copy of the information collection request, explanatory information, or related forms, contact Hope Grey at (703) 358-2482, or electronically to Hope_Grey@fws.gov.

SUPPLEMENTARY INFORMATION: The Office of Management and Budget (OMB) regulations at 5 CFR parts 1320, which implement provisions of the Paperwork Reduction Act of 1995 (44 U.S.C. 3501 et seq.), require that interested members of the public and affected agencies be given an opportunity to comment on information collection and record keeping activities (see 5 CFR 1320.8(d)).

The U.S. Fish and Wildlife Service (we) have submitted a request to OMB to renew its approval of the collection of information for the Sandhill Crane Harvest Survey. We are requesting a 3-year term of approval for this information collection activity.

Federal agencies may not conduct or sponsor, and a person is not required to respond to, a collection of information unless it displays a currently valid OMB control number. The OMB control number for this collection of information is 1018-0023.

The Migratory Bird Treaty Act (16 U.S.C. 703-711) and Fish and Wildlife Act of 1956 (16 U.S.C. 742d) designate the Department of the Interior as the key agency responsible for the wise management of migratory bird populations frequenting the United States and for the setting of hunting regulations that allow appropriate harvests that are within the guidelines that will allow for those populations' well-being. These responsibilities dictate the gathering of accurate data on various characteristics of migratory bird harvest. Knowledge attained by determining harvests and harvest rates of migratory game birds is used to regulate populations (by promulgating hunting regulations) and to encourage hunting opportunity, especially where crop depredations are chronic and/or lightly harvested populations occur. Based on information from harvest surveys, hunting regulations can be adjusted as needed to optimize harvests at levels that provide a maximum of hunting recreation while keeping populations at desired levels.

This information collection renewal request seeks approval for us to continue conducting the Sandhill Crane Harvest Survey. This is an annual questionnaire survey of people who obtained a sandhill crane hunting permit. At the end of the hunting season, we randomly select a sample of permit holders and send those people a questionnaire that asks them to report the date, State, county, and number of birds harvested for each of their sandhill crane hunts. Their responses provide estimates of the temporal and geographic distribution of the harvest as well as the average harvest per hunter, which, combined with the total number of sandhill crane permits issued, enables the Service to estimate the total harvest of sandhill cranes.

The Sandhill Crane Harvest Survey enables us to annually estimate the magnitude of the harvest and the portion it constitutes of the total mid-continent sandhill crane population. Based on information from this survey, hunting regulations are adjusted as needed to optimize harvest at levels that provide a maximum of hunting recreation while keeping populations at desired levels.

On March 29, 2004, we published in the Federal Register (69 FR 16282) a notice informing the public that we planned to submit the forms described below to OMB for approval under the Paperwork Reduction Act. We requested public comment on the information collection for 60 days, ending May 28, 2004. By that date, we did not receive any comments in response to the notice.

Title: Sandhill Crane Harvest Survey.

Approval Number: 1018-0023.

Service Form Number: 3-2056N.

Frequency of Collection: Annually.

Description of Respondents: Individuals and households.

Number of Respondents: About 7,500 hunters will respond to the Sandhill Crane Harvest Survey annually.

Total Annual Burden Hours: We estimate the reporting burden to average 5 minutes per respondent. Total annual burden is 625 hours.

We again invite comments concerning this renewal on: (1) Whether the collection of information is necessary for the proper performance of our migratory bird management functions, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C 552(a)).

Dated: September 30, 2004.
Hope G. Grey,
Information Collection Clearance Officer, Fish and Wildlife Service.

[FR Doc. 04-22847 Filed 10-8-04; 8:45 am]

BILLING CODE 4310-55-P